Title 3—

The President

Proclamation 8021 of May 19, 2006

National Maritime Day, 2006

By the President of the United States of America

A Proclamation

The United States Merchant Marine plays an important role in ensuring our national security and strengthening our economy. As we celebrate National Maritime Day and the 70th anniversary of the Merchant Marine Act, we pay tribute to merchant mariners and their faithful service to our Nation.

Since 1775, merchant mariners have bravely served our country, and in 1936, the Merchant Marine Act officially established their role in our military as a wartime naval auxiliary. During World War II, merchant mariners were critical to the delivery of troops and supplies overseas, and they helped keep vital ocean supply lines operating. President Franklin D. Roosevelt praised these brave merchant mariners for persevering “despite the perils of the submarine, the dive bomber, and the surface raider.” Today's merchant mariners follow those who courageously served before them as they continue to provide crucial support for our Nation's service men and women. America is grateful for their commitment to excellence and devotion to duty.

In addition to helping defend our country, merchant mariners facilitate commerce by importing and exporting goods throughout the world. They work with our Nation's transportation industry to share their valuable skills and experience in ship maintenance, navigation, and cargo transportation. This past year, the good work and compassion of merchant mariners also played an important role in hurricane relief efforts. Ships brought urgently needed supplies to the devastated areas, provided assistance for oil spill cleanup, generated electricity, and provided meals and lodging for recovery workers and evacuees.

In recognition of the importance of the U.S. Merchant Marine, the Congress, by joint resolution approved on May 20, 1933, as amended, has designated May 22 of each year as “National Maritime Day,” and has authorized and requested that the President issue an annual proclamation calling for its appropriate observance.

NOW, THEREFORE, I, GEORGE W. BUSH, President of the United States of America, do hereby proclaim May 22, 2006, as National Maritime Day. I call upon all the people of the United States to mark this observance by honoring the service of merchant mariners and by displaying the flag of the United States at their homes and in their communities. I also request that all ships sailing under the American flag dress ship on that day.

IN WITNESS WHEREOF, I have hereunto set my hand this nineteenth day of May, in the year of our Lord two thousand six, and of the Independence of the United States of America the two hundred and thirtieth.

B

[FR Doc. 06-4869

Filed 5-23-06; 8:45 am]

Billing code 3195-01-P